DEPARTMENT OF COMMERCE

International Trade Administration

[A-570-855]

Notice of Amended Final Determination of Sales at Less Than Fair Value and Antidumping Duty Order: Certain Non-Frozen Apple Juice Concentrate From the People's Republic of China

AGENCY: Import Administration, International Trade Administration, Department of Commerce.

EFFECTIVE DATE: June 5, 2000.

FOR FURTHER INFORMATION CONTACT: Craig Matney, Sally Hastings, or Annika O'Hara, Import Administration, International Trade Administration, U.S. Department of Commerce, 14th Street and Constitution Avenue, NW, Washington, DC 20230; telephone: (202) 482-1778, 482-3464, or 482-3798, respectively.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (1998).

Scope of Order

The product covered by this order is certain non-frozen apple juice concentrate (“NFAJC”). Certain NFAJC is defined as all non-frozen concentrated apple juice with a Brix scale of 40 or greater, whether or not containing added sugar or other sweetening matter, and whether or not fortified with vitamins or minerals. Excluded from the scope of this investigation are: frozen concentrated apple juice; non-frozen concentrated apple juice that has been fermented; and non-frozen concentrated apple juice to which spirits have been added.

The merchandise subject to this order is classified in the Harmonized Tariff Schedule of the United States (“HTSUS”) at subheadings 2009.70.00.20 and 2106.90.52. Although the HTSUS subheadings are provided for convenience and customs purposes, the written description of the merchandise under investigation is dispositive.

Amended Final Determination

In accordance with section 735(a) of the Act, on April 13, 2000, the Department published its final determination of the antidumping duty investigation of certain NFAJC from the People's Republic of China (“PRC”) in which we determined that U.S. sales of NFAJC from the PRC were made at less than normal value (65 FR 19873 (ldquo;NFAJC Final”)). On April 18, 2000, we received ministerial error allegations, timely filed pursuant to § 351.224(c)(2) of the Department's regulations from Yantai North Andre Juice Co., Ltd. (“North Andre”); Shaanxi Haisheng Fresh Fruit Juice Co., Ltd. (“Haisheng”); Sanmenxia Lakeside Fruit Juice Co., Ltd. (“Lakeside”); Shandong Zhonglu Co., Ltd./Rushan Shangjin-Zhonglu Foodstuff Co., Ltd./Shandong Luling Fruit Juice Co./Rushan Dongjin Foodstuffs (“Zhonglu”); Yantai Oriental Juice Co., Ltd. (“Oriental”); Qingdao Nannan Foods Co., Ltd. (“Nannan”); Xian Asia Qin Fruit Co., Ltd. (“Asia”); Xian Yang Fuan Juice Co., Ltd. (“Fuan”); Changsha Industrial Products & Minerals Import and Export Co., Ltd. (“Changsha Industrial”); and Shangdong Foodstuffs Import and Export Corporation (“Shangdong Foodstuffs”) (hereinafter collectively referred to as “the respondents”) regarding the Department's final margin calculations. On April 24, 2000, we received comments on the respondents' ministerial error allegations from Coloma Frozen Foods, Inc.; Green Valley Packers; Knouse Foods Cooperative, Inc.; Mason County Fruit Packers Co-op, Inc.; and Tree Top Inc. (hereinafter collectively referred to as “the petitioners”).

We have determined in accordance with section 735(e) of the Act that a ministerial error in the calculation of the international freight surrogate value was made in our final margin calculations. For a detailed discussion of the above-cited ministerial error allegations and the Department's analysis, see Memorandum to Richard W. Moreland, dated May 8, 2000. We are amending the final determination of the antidumping duty investigation of NFAJC from the PRC to correct this ministerial error. The revised final weighted-average dumping margins are as follows:

Exporter/manufacturer | Original weighted-average margin percentage | Revised weighted-average margin percentage
North Andre | 0.00 | 0.00
Haisheng | 12.90 | 12.03
Lakeside | 28.54 | 27.57
Zhonglu | 9.40 | 8.98
Oriental | 9.96 | 9.96
Nannan | 26.43 | 25.55
Asia | 15.36 | 14.88
Yang | 15.36 | 14.88
Changsha Industrial | 15.36 | 14.88
Shandong Foodstuffs | 15.36 | 14.88
PRC-wide rate | 51.74 | 51.74

Antidumping Duty Order

On May 30, 2000, in accordance with section 735(d) of the Act, the U.S. International Trade Commission (“ITC”) notified the Department that a U.S. industry is “materially injured,” within the meaning of section 735(b)(1)(A) of the Act, by reason of less-than-fair-value imports of NFAJC from the PRC.

Therefore, the Department will direct the U.S. Customs Service to assess, upon further advice by the Department, antidumping duties equal to the amount by which the normal value of the subject merchandise exceeds the export price or constructed export price of the subject merchandise for all entries of NFAJC from the PRC, except for subject merchandise both produced and exported by North Andre, which received a zero final margin. The ITC further found that critical circumstances do not exist with respect to imports of the subject merchandise from the PRC. As a result, antidumping duties will be assessed on all unliquidated entries of NFAJC entered, or withdrawn from warehouse, for consumption on or after November 23, 1999, the date of publication of the Department's preliminary determination in the Federal Register (64 FR 65675), and the Department will direct Customs to refund any cash deposits made, or bonds posted, on any subject merchandise which was entered prior to the Department's preliminary determination publication date of November 23, 1999. Finally, we will instruct Customs to liquidate without regard to antidumping duties and to refund all cash deposits, or bonds posted, for entries of subject merchandise both produced and exported by North Andre.

On or after the date of publication of this notice in the Federal Register, Customs officers must require, at the same time as importers would normally deposit estimated duties, cash deposits for the subject merchandise equal to the weighted-average antidumping duty margins as noted below:

Exporter/manufacturer | Revised Weighted-average margin percentage
North Andre | (¹)
Haisheng | 12.03
Lakeside | 27.57
Zhonglu | 8.98
Oriental | 9.96
Nannan | 25.55
Asia | 14.88
Fuan | 14.88
Changsha Industrial | 14.88
Shandong Foodstuffs | 14.88
PRC-wide rate | 51.74
¹ Excluded.

This notice constitutes the antidumping duty order with respect to NFAJC from the PRC, pursuant to section 735(a) of the Act. Interested parties may contact the Central Records Unit, Room B-099 of the main Commerce building for copies of an updated list of antidumping duty orders currently in effect.

This order is published in accordance with section 736(a) of the Act and 19 CFR 351.211.

Dated: May 30, 2000.
Troy H. Cribb,
Acting Assistant Secretary for Import Administration.

[FR Doc. 00-14029 Filed 6-2-00; 8:45 am]

BILLING CODE 3510-DS-P